DEPARTMENT OF JUSTICE

Notice of Lodging of Proposed Consent Decree Under the Comprehensive Environmental Response, Compensation, and Liability Act

On January, 17, 2025, the Department of Justice lodged a proposed Consent Decree with the United States District Court for the Northern District of California, in the lawsuit entitled United States of America, ex. Rel., Arthur R. Jahr, III et al., Anthony Smith & Donald K. Wadsworth et al. v. Tetra Tech EC Inc, Civil Action No. 3:13-cv-3835 JD, pertaining to the Hunters Point Naval Shipyard Superfund Site in San Francisco, California.

The Consent Decree resolves the Fifth Cause of Action set forth in the United States' Second Amended Complaint filed in the above referenced matter (“CERCLA Claim”). The CERCLA Claim asserts that response action contractor, Tetra Tech EC (“TtEC”), is liable under Section 107(a) of CERCLA as both an operator of the facility at the time of the disposal of a hazardous substance, and as a transporter for disposal of a hazardous substance at the site. TtEC signed the consent decree. TtEC will pay $40 million in response costs. In return, the United States agrees not to sue TtEC under sections 106 and 107 of CERCLA. The Consent Decree also resolves TtEC's counterclaim against Navy pursuant to Section 113(f) of CERCLA seeking contribution, equitable allocation of response costs incurred at the site, equitable contribution, equitable indemnity and declaratory relief.

The publication of this notice opens a period for public comment on the Consent Decree. Comments should be addressed to the Assistant Attorney General, Environment and Natural Resources Division, and should refer to United States of America, ex. Rel., Arthur R. Jahr, III et al., Anthony Smith & Donald K. Wadsworth et al. v. Tetra Tech EC Inc, D.J. Ref. No. 90-11-3-12345. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Scott Bauer,
Assistant Section Chief, Environmental Enforcement Section, Environment and Natural Resources Division.

[FR Doc. 2025-01650 Filed 1-23-25; 8:45 am]

BILLING CODE 4410-15-P